SMALL BUSINESS ADMINISTRATION

Revocation of License of Small Business Investment Company

Pursuant to the authority granted to the United States Small Business Administration by the Final Order of the United States District Court of the Eastern District of Michigan, dated July 26, 2006, the United States Small Business Administration hereby revokes the license of Metro-Detroit Investment Company, a Michigan corporation, to function as a small business investment company under the Small Business Investment Company License No. 05/05-5126 issued to Metro-Detroit Investment Company on June 1, 1978 and said license is hereby declared null and void as of September 28, 2006.

Small Business Administration.
Dated: September 28, 2006.
Jaime Guzman-Fournier,
Associate Administrator for Investment.

[FR Doc. E6-16499 Filed 10-4-06; 8:45 am]

BILLING CODE 8025-01-P